DEPARTMENT OF COMMERCE

International Trade Administration

Corrected 2007 Calculation of Expected Non-Market Economy Wages

AGENCY: Import Administration, International Trade Administration, Department of Commerce.

ACTION: Correction of 2007 Expected Non-Market Economy Wage Calculation.

SUMMARY: On May 9, 2008 the Department published finalized 2007 expected NME wage rates. See 2007 Calculation of Expected Non-Market Economy Wages, 73 FR 26363, (May 9, 2008). However, those results inadvertently omitted observation #1 (the data for Albania) from the regression analysis. That error has been corrected.

DATES: These expected NME wage rates are finalized on the date of publication of this notice in the Federal Register and will be in effect for all antidumping proceedings for which the Department's final decision is due after the publication of this notice.

FOR FURTHER INFORMATION CONTACT: Anthony Hill, Economist, Office of Policy, or Juanita Chen, Special Assistant to the Senior Enforcement Coordinator, China/NME Group, Import Administration, U.S. Department of Commerce, 14th Street and Constitution Avenue, NW., Washington, DC 20230; telephone: (202) 482-1843 and (202) 482-1904, respectively.

Correction of Clerical Error

The Department inadvertently omitted observation #1 (the data for Albania) from the regression analysis. That error has now been corrected.

Results

After correction of the clerical error, the regression results are:

Wage = 0.257585 + 0.000448* GNI.

The final expected NME wage rates, as calculated after this correction, are shown in Attachment 1.

Dated: May 12, 2008.
David M. Spooner,
Assistant Secretary for Import Administration.

Attachment 1

Country | Expected NME: 2005 GNI (USD per annum) | Expected NME: Wage rate (USD per hour)
Armenia | 1,470 | 0.92
Azerbaijan | 1,270 | 0.83
Belarus | 2,760 | 1.49
China | 1,740 | 1.04
Georgia | 1,300 | 0.84
Kyrgyz Republic | 450 | 0.46
Moldova | 960 | 0.69
Tajikistan | 330 | 0.41
Uzbekistan | 530 | 0.50
Vietnam | 620 | 0.54

The World Bank did not publish a GNI for Turkmenistan.

The final results and underlying data for the 2007 calculation have been posted on the Import Administration Web site at (http://ia.ita.doc.gov).

[FR Doc. E8-10903 Filed 5-13-08; 8:45 am]

BILLING CODE 3510-DS-P